DEPARTMENT OF AGRICULTURE

Forest Service

Nez Perce-Clearwater National Forests; Idaho; Crooked River Valley Rehabilitation Project

AGENCY: Forest Service, USDA.

ACTION: Notice of intent to prepare an environmental impact statement.

SUMMARY: The forest gives notice of its intent to prepare an Environmental Impact Statement for the Crooked River Valley Rehabilitation Project. The Red River Ranger District of the Nez Perce-Clearwater National Forests is undergoing planning efforts to restore the lower Crooked River valley near Elk City, Idaho. The Environmental Impact Statement will analyze the effects of the proposed action and alternatives. The Nez Perce-Clearwater Forests invites comments and suggestions on the issues to be addressed. The agency gives notice of the National Environmental Policy Act (NEPA) analysis and decision making process on the proposal so interested and affected members of the public may participate and contribute to the final decision.

DATES: Comments concerning the scope of the analysis must be received by 45 days after the date of publication in the Federal Register. The draft environmental impact statement is expected October 2014 and the final environmental impact statement is expected September 2015.

ADDRESSES: Send written or electronic comments to Attn: Jennie Fischer, Interdisciplinary Team Leader; Nez Perce-Clearwater National Forest; 104 Airport Road, Grangeville, ID 83530. Send electronic comments via email to: comments-northernnezperce-red-river@fsled.us, or via facsimile to 208-983-4099. Subject: Crooked River Valley Project.

The Nez Perce National Forest has scheduled public meetings, to be held in two separate locations, to introduce this project and discuss the most effective ways the public can become involved. Meetings will take place in Elk City and Grangeville, Idaho in January, 2013. Additional information will be provided in the local newspaper prior to meeting times.

FOR FURTHER INFORMATION CONTACT: Jennie Fischer, Interdisciplinary Team Leader, 104 Airport Road, Grangeville, ID 83530; 208-983-4048. Individuals who use telecommunication devices for the deaf (TDD) may call the Federal Information Relay Service (FIRS) at 1-800-877-8339 between 8 a.m. and 8 p.m., Eastern Time, Monday through Friday. Detailed information about this project is also available by visiting our project Web site: http://www.fs.fed.usinepa/fs-usda-pop.php/?project=40648.

SUPPLEMENTARY INFORMATION: Project location is on the Red River Ranger District, Nez Perce-Clearwater National Forests, Idaho County, Idaho; approximately 6 miles southwest of Elk City, Idaho. The project boundary extends from the Idaho Department of Fish and Game, fish weir near the mouth of Crooked River about 6 miles south to the confluence of Crooked River and Relief Creek. The project boundary also includes the Road 1803 from the junction with Road 222 road along Red River; and Road 522 to the junction with Road 223 along Crooked River.

Purpose and Need for Action

During the 1930s through the 1950s the lower two miles of the Crooked River Valley were heavily impacted by dredge mining, leaving behind large tailing piles and deep ponds throughout the valley bottom. Gold and silver mining affected most of the valley bottom along the mainstem of Crooked River. Physical changes to the valley bottom have altered stream and riparian process, and have affected aquatic and terrestrial habitat conditions, resulting in degraded ecosystem conditions relative to historical conditions. There is a need to restore the Crooked River valley bottom and stream channel to provide habitat for Endangered Species Act-listed fish. This would be achieved by removing the majority of the tailing piles and re-constructing the river and its floodplain to create natural stream sinuosity and morphology; to restore floodplain and hydrologic process; to construct instream channel structures to provide spawning and rearing habitat for steelhead, spring/summer Chinook salmon, bull trout, and cutthroat trout; and to restore riparian areas.

The county portion of the Crooked River Road runs approximately 12 miles from state Highway 14 to the town of Orogrande, Idaho. The road is under the jurisdiction of Idaho County and is also designated as a National Forest System Road (NFSR)—Road 233. The road follows Crooked River for its entire length and is within the floodplain of Crooked River for approximately 3 miles through the “narrows”. Through the narrows section the road constricts Crooked River, delivers sediment from the road surface, and often floods during spring runoff. Crooked River Road 233 prism is within the bankfull floodplain of Crooked River for much of its length and floods and fails during spring runoff. The road is narrow, providing only one way traffic with soft shoulders along the river. The proximity of the road to the river channel facilitates sediment delivery to the river and is difficult to maintain throughout the year. There is a need to improve the floodplain functions of Crooked River, reduce sediment delivery from the road, improve forest visitor safety, and provide easier maintenance of the road.

Proposed Action

The proposed action is to rehabilitate the lower two miles of the Crooked River valley bottom with meanders and re-align 3 miles the Crooked River Road 233 through the narrow canyon on the Red River Ranger District of the Nez Perce-Clearwater National Forests. There are two components of the project: Crooked River Meanders and Crooked River Narrows Road.

Crooked River Meanders

There is a need to restore the valley bottom and stream channel to provide habitat for Endangered Species Act-listed fish. This would be achieved by removing the majority of the tailing piles and re-constructing the river and its floodplain to create natural stream sinuosity and morphology; to restore floodplain and hydrologic process; to construct instream channel structures to provide spawning and rearing habitat for steelhead, spring/summer Chinook salmon, bull trout, and cutthroat trout; and to restore riparian areas.

The proposed action would rehabilitate approximately two valley miles of Crooked River by reshaping mine tailing piles and reconstruct over two miles of stream channel.

• Provide instream habitat structures and quality spawning, rearing and migration habitat for steelhead, spring/summer Chinook salmon, bull trout, and cutthroat trout.

• Provide proper riparian and wetland functions and complexity throughout the project area.

• Maintain campsites in the project area.

• Preserve heritage resource areas as identified by the Forest Service Archeologist and the State Historic Preservation Office.

Crooked River Narrows Road

The current Road 233 prism is within the bankfull floodplain of Crooked River for much of its length. There is a need to improve the floodplain functions of Crooked River, reduce sediment delivery from the road, improve forest visitor safety, and provide easier maintenance of the road.

The proposed action would re-align 3 miles of road within the bottom of the valley to reduce failure potential, and sediment inputs into Crooked River. This would improve maintainability and safety of the road by providing turnouts, wider road base (approx. 16 feet), buffers between the road and the river, graveled road surface, and stable road base.

Implementation of the Crooked River Valley Rehabilitation Project is proposed to take place in 2015-2020.

Possible Alternatives the forest will consider and include the no-action alternative, which will serve as a baseline for comparison of alternatives. The proposed action will be considered along with additional alternatives that will be developed to meet the purpose and need for action, and to address significant issues identified during scoping. The potential alternatives for the Crooked River Meanders are to restore approximately two miles of valley bottom and rehabilitate over two miles of Crooked River. The potential alternatives for the Crooked River Narrows Road are: (1) Reconstruct the existing roadway, through vertical and horizontal shifts, such that most of roadway is above the 100-year flood-flow elevation; (2) establish a new location and alignment of the Road 233 road between mile posts 2 and 6, such that the new road is entirely above the 100-year flood-flow elevation. The Forest may consider converting the existing Road 233 to a trail or completely decommissioning the road; or (3) Use/improve an existing alternative road (Road 522 and 1803, from State Highway 14 at the mouth of Red River up to the intersection of Road 233 at the mouth of Relief Creek). The Forest may consider converting the existing Road 233 to a trail or completely decommissioning the road.

Lead and Cooperating Agencies

The Nez Perce-Clearwater National Forests of the USDA-Forest Service is the lead agency. Cooperating agencies include: the Nez Perce Tribe and Bonneville Power Agency.

Responsible Official

Rick Brazell, Forest Supervisor, Nez Perce-Clearwater National Forests, 104 Airport Road, Grangeville, ID 83530 is the responsible official for this proposal.

Nature of Decision To Be Made

The Nez Perce National Forest will decide whether or not to complete the Crooked River Meanders project and the extent of location of stream rehabilitation. The Forest will also decide whether or not to re-align the Crooked River Narrows Road and the extent and location of road reconstruction. The forest will decide what design and mitigation measures and monitoring would be included.

Preliminary Issues identified include the effects to cultural resources, public access, and future road maintenance costs.

Permits or Licenses Required

Permits that may be needed for this project are related to Clean Water Act (CWA) and the Endangered Species Act. If necessary, permits may include: CWA—Section 404 permits from the Corp or Engineers, Stream Alteration Act Permit from Idaho Department of Water Resources, CWA—Section 401 Certification from Idaho Department of Environmental Quality, Incidental Take Permits included as part of the Biological Opinions from NOAA Fisheries and U.S. Fish and Wildlife Service, or CWA—Section 402 NPDES permits from the Environmental Protection Agency.

Scoping Process

This notice of intent initiates the scoping process, which guides the development of the environmental impact statement. The U.S. Forest Service uses the process required by the National Environmental Policy Act (NEPA). NEPA requires a systematic, interdisciplinary approach to ensure integrated application of the natural and social sciences and the environmental design arts in any planning and decision making that affects the human environment (42 U.S.C. 4332(2)(A)). Comments are accepted for 45 days after notification in the Federal Register.

These comments help identify significant issues and/or eliminate non-significant issues from detailed study in the environmental impact statement. Comments are most useful if they are specific. It is important that reviewers provide their comments at such times and in such manner that they are useful to the agency's preparation of the environmental impact statement. Therefore, comments should be provided prior to the close of the comment period and should clearly articulate the reviewer's concerns and contentions. Comments received in response to this solicitation, including names and addresses of those who comment, will be part of the public record for this proposed action. Comments submitted anonymously will be accepted and considered, however.

The Forest Service is seeking information and comments from other Federal, State, and local agencies; Tribal Governments, and organizations and individuals who may be interested in or affected by the proposed action presented in this notice of intent. A draft envronmenal impact statement will be prepared for comment in the future. The second major opportunity for public input will be when the Draft EIS is published. The comment period for the Draft EIS will be 45-days from the date the Envirnmental Protectoin Agency published the notice of availability in the Federal Register. The Draft EIS is anticipated to be available for public review in October 2014.

Dated: November 30, 2012.
Rick Brazell,
Nez Perce-Clearwater Forests, Forest Supervisor.

[FR Doc. 2012-29836 Filed 12-11-12; 8:45 am]

BILLING CODE 3410-11-M